DEPARTMENT OF DEFENSE

GENERAL SERVICES ADMINISTRATION

NATIONAL AERONAUTICS AND SPACE ADMINISTRATION

[OMB Control No. 9000-0024; Docket 2017-0053; Sequence 2]

Information Collection; Federal Acquisition Regulation: Buy American, Trade Agreements, and Duty-Free Entry

AGENCY: Department of Defense (DOD), General Services Administration (GSA), and National Aeronautics and Space Administration (NASA).

ACTION: Notice of request for public comments regarding an extension to an existing OMB clearance.

SUMMARY: Under the provisions of the Paperwork Reduction Act, the Regulatory Secretariat Division (MVCB) will be submitting to the Office of Management and Budget (OMB) a request for revision and an extension to existing OMB clearances regarding the Buy American statute, Trade Agreements, and duty-free entry.

DATES: Submit comments on or before September 29, 2017.

ADDRESSES: Submit comments identified by Information Collection 9000-0024, Buy American, Trade Agreements, and Duty-Free Entry, by any of the following methods:

• Regulations.gov: http://www.regulations.gov.

Submit comments via the Federal eRulemaking portal by searching the OMB control number 9000-0024. Select the link “Comment Now” that corresponds with “Information Collection 9000-0024, Buy American, Trade Agreements, and Duty-Free Entry. Follow the instructions provided on the screen. Please include your name, company name (if any), and “Information Collection 9000-0024, Buy American, Trade Agreements, and Duty-Free Entry” on your attached document.

• Mail: General Services Administration, Regulatory Secretariat Division (MVCB), 1800 F Street NW., Washington, DC 20405. ATTN: Ms. Sosa/IC 9000-0024, Buy American, Trade Agreements, and Duty-Free Entry.

Instructions: Please submit comments only and cite Information Collection 9000-0024, Buy American, Trade Agreements, and Duty-Free Entry, in all correspondence related to this collection. Comments received generally will be posted, without change, to http://www.regulations.gov, including any personal and/or business confidential information provided. To confirm receipt of your comment(s), please check www.regulations.gov, approximately two to three days after submission to verify posting (except allow 30 days for posting of comments submitted by mail).

FOR FURTHER INFORMATION CONTACT: Ms. Cecelia L. Davis, Procurement Analyst, Acquisition Policy Division, GSA (202) 219-0202 or email cecelia.davis@gsa.gov.

SUPPLEMENTARY INFORMATION:

A. This information collection requirement pertains to information that an offeror must submit in response to the requirements of the provisions and clauses in FAR 52.225 that relate to the following:

* The Buy American statute (41 U.S.C. chapter 83 and E.O. 10582).

* The Trade Agreements Act (19 U.S.C. 2501-2515), including the World Trade Organization Government Procurement Agreement and various free trade agreements.

* The American Recovery and Reinvestment Act of 2009 (Pub. L. 111-5) (Recovery Act).

* Subchapters VIII and X of Chapter 98 of the Harmonized Tariff Schedule of the United States (19 U.S.C. 1202).

a. 52.225-2, Buy American Certificate, as prescribed in FAR 25.1101 (a)(2), requires the offeror to identify in its proposal supplies that do not meet the definition of domestic end product. The Buy American statute does not apply to acquisitions of commercial information technology.

b. 52.225-4, Buy American—Free Trade Agreements—Israeli Trade Act Certificate, as prescribed in FAR 25.1101(b)(2)(i), requires separate listing of foreign products that are eligible under a trade agreement, and listing of all other foreign end products.

c. 52.225-6, Trade Agreements Certificate, as prescribed in FAR 25.1101(c)(2), requires the offeror to certify that all end products are either U.S.-made or designated country end products, except as listed in paragraph (b) of the provision. Offerors are not allowed to provide other than a U.S.-made or designated country end product, unless the requirement is waived.

d. Construction provisions and clauses:

• 52.225-9, Buy American-Construction Materials

• 52.225-10, Notice of Buy American Requirement—Construction Materials

• 52.225-11, Buy American—Construction Materials under Trade Agreements

• 52.225-12, Notice of Buy American Requirement—Construction Materials under Trade Agreements

• 52.225-21, Required Use of American Iron, Steel and Manufactured Goods—Buy American—Construction Materials

• 52.225-23, Required Use of American Iron, Steel and Manufactured Goods—Buy American—Construction Materials under Trade Agreements.

The listed provisions and clauses, as prescribed in FAR 25.1102(a) through (e), provide that an offeror/contractor requesting to use foreign construction material due to unreasonable cost of domestic construction material shall provide adequate information to permit evaluation of the request.

e. 52.225-8, Duty-Free Entry (formerly OMB clearance 9000-0022), as prescribed in FAR 25.1101(e), requires the contractor to notify the contracting officer when it purchases foreign supplies, in order to determine whether the supplies should be duty-free. In addition, all shipping documents and containers must specify certain information to assure the duty-free entry of the supplies.

B. Annual Reporting Burden

1. Buy American and Trade Agreements-Supplies:

FAR Clause 52.225-2, Buy American Certificate, requires the offeror to identify in its proposal supplies for use in the United States that do not meet the definition of domestic end product. The Buy American statute does not apply to acquisitions of commercial information technology.

Respondents: 3,306.

Responses per Respondent: 5.

Total Responses: 16,530.

Hours per Response: .25.

Total Burden Hours: 4,133.

FAR Clause 52.225-4, Buy American-Free Trade Agreements-Israeli Trade Act Certificate, requires separate listing of foreign products that are eligible under a trade agreement, and listing of all other foreign end products.

Respondents: 1,977.

Responses per Respondent: 5.

Total Responses: 9,885.

Hours per Response: .25.

Total Burden Hours: 2,471.

FAR Clause 52.225-6, Trade Agreements Certificate, requires the offeror to certify that all end products are either U.S.-made or designated country end products, except as listed in paragraph (b) of the provision. Offerors are not allowed to provide other than a U.S.-made or designated country end product, unless the requirement is waived.

Respondents: 397.

Responses per Respondent: 2.

Total Responses: 794.

Hours per Response: .25.

Total Burden Hours: 199.

2. Buy American and Trade Agreements—Construction provisions and clauses provide that an offeror/contractor requesting to use foreign construction material due to unreasonable cost of domestic construction material shall provide adequate information to permit evaluation of the request.

—52.225-9, Buy American—Construction Materials

—52.225-10, Notice of Buy American Requirements—Construction Materials

—52.225-11, Buy American—Construction Materials under Trade Agreements

—52.225-12, Notice of Buy American Requirements—Construction Materials under Trade Agreements

—52.225-21, Required Use of American Iron, Steel and Manufactured Goods—Buy American—Construction Materials

—52.225-23, Required Use of American Iron, Steel and Manufactured Goods—Buy American—Construction Materials under Trade Agreements

Respondents: 853.

Responses per Respondent: 2.3.

Total Responses: 1,990.

Hours per Response: 5.

Total Burden Hours: 10,045.

3. Duty-Free Entry. The clause at FAR 52.225-8, Duty-Free Entry (formerly OMB clearance 9000-0022), is included in solicitations and contracts for supplies that may be imported into the United States and for which duty-free entry may be obtained in accordance with FAR 25.903(a), if the value of the acquisition (1) exceeds the simplified acquisition threshold; or (2) does not exceed the simplified acquisition threshold, but the savings from waiving the duty is anticipated to be more than the administrative cost of waiving the duty. The contracting officer analyzes the information submitted by the contractor to determine whether or not supplies should enter the country duty-free.

Respondents: 1,330.

Responses per Respondent: 10.

Total Responses: 13,300.

Hours per Response: 0.5.

Total Burden Hours: 6,650.

4. Summary

Respondents: 7,863.

Responses per Respondent: 5.4.

Total Responses: 42,499.

Hours per Response: .5.

Total Burden Hours: 23,497.

C. Public Comments:

Public comments are particularly invited on: Whether this collection of information is necessary for the proper performance of functions of the FAR, and whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

Obtaining Copies of Proposals: Requesters may obtain a copy of the information collection documents from the General Services Administration, Regulatory Secretariat Division (MVCB), 1800 F Street NW., Washington, DC 20405, telephone 202-501-4755.

Please cite OMB Control No. 9000-0024, Buy American, Trade Agreements, and Duty-Free Entry in all correspondence.

Dated: July 25, 2017.
Lorin S. Curit,
Director, Federal Acquisition Policy Division, Office of Government-wide Acquisition Policy, Office of Acquisition Policy, Office of Government-wide Policy.

[FR Doc. 2017-16022 Filed 7-28-17; 8:45 am]

BILLING CODE 6820-EP-P